DEPARTMENT OF TRANSPORTATION

Federal Aviation Administration

Nineteenth Tactical Operations Committee (TOC) Meeting

AGENCY: Federal Aviation Administration (FAA), U.S. Department of Transportation (DOT).

ACTION: Nineteenth TOC Meeting.

SUMMARY: The FAA is issuing this notice to advise the public of a meeting of the Nineteenth TOC Meeting.

DATES: The meeting will be held March 1, 2018, 09:00 a.m.-4:00 p.m., Eastern Time.

ADDRESSES: The meeting will be held at: RTCA Headquarters, 1150 18th Street NW, Suite 910, Washington, DC 20036.

FOR FURTHER INFORMATION CONTACT: Trin Mitra, TOC Secretariat, 202-330-0665, tmitra@rtca.org, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given of the Nineteenth TOC Meeting. The TOC is a component of RTCA, which is a Federal Advisory Committee. The agenda will include the following:

March 1, 2018, 9:00 a.m. to 4:00 p.m., Eastern Time

1. Welcome and Introductions of TOC Members

2. Official Statement of Designated Federal Officer

3. Review and Approval of Meeting Summary from the Previous TOC Meeting

4. FAA Update

5. Consideration of Draft Recommendations from the Intentional GPS Interference Task Group

6. FAA Response on Previous TOC Recommendations

7. Discuss Future of the TOC

8. Other Business

9. Closing Comments—DFO and Chairs

10. Adjourn

Attendance is open to the interested public but limited to space availability. With the approval of the Chairman, members of the public may present oral statements at the meeting. Persons wishing to present statements or obtain information should contact the person listed in the FOR FURTHER INFORMATION CONTACT section. Members of the public may present a written statement to the committee at any time.

Issued in Washington, DC, on February 1, 2018.
Mohannad Dawoud,
Management & Program Analyst, Partnership Contracts Branch, ANG-A17 NextGen, Procurement Services Division, Federal Aviation Administration.

[FR Doc. 2018-02385 Filed 2-6-18; 8:45 am]

BILLING CODE 4910-13-P